DEPARTMENT OF TRANSPORTATION

Federal Aviation Administration

14 CFR Part 39

[Docket No. FAA-2014-0168; Directorate Identifier 2013-NM-208-AD; Amendment 39-18039; AD 2014-24-06]

RIN 2120-AA64

Airworthiness Directives; The Boeing Company Airplanes

AGENCY: Federal Aviation Administration (FAA), DOT.

ACTION: Final rule.

SUMMARY: We are adopting a new airworthiness directive (AD) for certain The Boeing Company Model 787-8 airplanes. This AD was prompted by failure during testing of the anchor attachment on the occupant restraint system on the standard attendant seat due to an understrength attachment fitting. This AD requires replacing the existing restraint attachment fitting on the standard attendant seat with a new, improved attachment fitting. We are issuing this AD to prevent failure of the restraint attachment fitting of the attendant seat during an emergency landing, which could cause injury to the cabin crew and passengers and could impede a rapid evacuation.

DATES: This AD is effective January 9, 2015.

The Director of the Federal Register approved the incorporation by reference of certain publications listed in this AD as of January 9, 2015.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0168; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Eric M. Brown, Aerospace Engineer, Cabin Safety and Environmental Systems Branch, ANM-150S, FAA, Seattle Aircraft Certification Office, 1601 Lind Avenue SW., Renton, WA 98057-3356; phone: 425-917-6746; fax: 425-917-6590; email: eric.m.brown@faa.gov.

SUPPLEMENTARY INFORMATION:

Discussion

We issued a notice of proposed rulemaking (NPRM) to amend 14 CFR part 39 by adding an AD that would apply to certain The Boeing Company Model 787-8 airplanes. The NPRM published in the Federal Register on March 28, 2014 (79 FR 17455). The NPRM was prompted by failure during testing of the anchor attachment on the occupant restraint system on the standard attendant seat due to an understrength attachment fitting. The NPRM proposed to require replacing the existing restraint attachment fitting on the standard attendant seat with a new, improved attachment fitting. We are issuing this AD to prevent failure of the restraint attachment fitting of the attendant seat during an emergency landing, which could cause injury to the cabin crew and passengers and could impede a rapid evacuation.

Comments

We gave the public the opportunity to participate in developing this AD. The following presents the comments received on the NPRM (79 FR 17455, March 28, 2014) and the FAA's response to each comment.

Request To Change the Reason for the Unsafe Condition

Boeing asked that we change the reason for the unsafe condition in the SUMMARY and Discussion sections of the NPRM (79 FR 17455, March 28, 2014). The reason specifies that the AD was prompted by failure of the anchor attachment on the occupant restraint system on the standard attendant seat due to an undersized attachment fitting. Boeing stated that the reason stated in the NPRM is ambiguous and may give an incorrect impression of the nature of the failure. Boeing asked that the reason be changed to specify that the triggering failure occurred during testing, and not in service.

We agree with the commenter that the failure of the anchor attachment occurred during testing. We have changed this final rule accordingly.

Requests for Changes to the Unsafe Condition

Boeing asked that we clarify the unsafe condition specified in the SUMMARY and Discussion sections of the NPRM (79 FR 17455, March 28, 2014). The unsafe condition in the NPRM specified that the AD is being issued to “prevent failure” of the restraint attachment fitting and consequent “detachment of the attendant seat. . . .” Boeing stated that the language should be clarified to specify that only the restraint system, not the attendant seat, will detach. Boeing added that the undersized fitting is not the correct reason for the failure because the geometry of the existing fitting increased the local internal loads beyond the attachment capability, and the new fitting is actually smaller than the existing fitting, yet reduces the internal loads that lead to failure.

We agree with the commenter that only the restraint system, not the attendant seat, will detach. We have clarified this language in the SUMMARY and Discussion sections, as well as paragraph (e) of this final rule.

We agree that the failure is due to the excessive internal loads generated by the attachment fitting geometry; however, we note that the term “undersized” refers to the loading capability of the attachment fitting, not the actual physical size. We have clarified the SUMMARY and Discussion sections, as well as paragraph (e) of this final rule, by changing the term “undersized” to “understrength.”

Boeing also asked that the end level effect, which specifies in part, “. . . could cause injury to passengers and crew . . .” be changed to “. . . could cause injury to cabin crew and passengers. . .” Boeing stated that the language in the NPRM (79 FR 17455, March 28, 2014) could suggest that the equivalent or primary threat is to passengers because they are identified first; however, the primary threat would be to the cabin crew. Boeing noted that unrestrained cabin crew may be injured by impact to the aircraft interior or other cabin crew or passengers.

We agree with the commenter that the primary threat would be to the cabin crew. Our evaluation shows that an injury to a flight attendant would increase the risk of injury to a passenger during an emergency evacuation. We have clarified the SUMMARY and Discussion sections, as well as paragraph (e) of this final rule, to include the phrase “injury to the cabin crew and passengers.”

Request To Clarify the Applicability Section

Boeing asked that we clarify the scope of the affected airplanes specified in the SUMMARY section of the NPRM (79 FR 17455, March 28, 2014), by referring to the service information as follows: “. . . certain The Boeing Company Model 787-8 airplanes, certificated in any category, as identified in Boeing Service Bulletin B787-81205-SB250027-00, Issue 001, dated January 14, 2014.” Boeing stated that the current language identifies the target airplanes only as “certain The Boeing Company 787-8 airplanes,” which is not specific.

We disagree with the request to add details for the affected airplanes specified in the SUMMARY section. The SUMMARY section of this final rule provides an overview and does not include detailed information. Paragraph (c) of this AD lists the full details for the airplanes affected by this final rule. We have, however, changed the applicability section specified in paragraph (c) of this AD to also refer to the effectivity of Boeing Service Bulletin B787-81205-SB250027-00, Issue 001, dated January 14, 2014.

Conclusion

We reviewed the relevant data, considered the comments received, and determined that air safety and the public interest require adopting this AD with the changes described previously. We also determined that these changes will not increase the economic burden on any operator or increase the scope of this AD.

Costs of Compliance

We estimate that this AD affects 1 airplane of U.S. registry.

We estimate the following costs to comply with this AD:

Estimated Costs
Action | Labor cost | Parts cost | Cost per product | Cost on U.S. operators
Replacement | 1 work-hour × $85 per hour = $85 | $0 | $85 | $85

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-24-06 The Boeing Company: Amendment 39-18039; Docket No. FAA-2014-0168; Directorate Identifier 2013-NM-208-AD.

(a) Effective Date

This AD is effective January 9, 2015.

(b) Affected ADs

None.

(c) Applicability

This AD applies to The Boeing Company Model 787-8 airplanes, certificated in any category, with Goodrich Model 2787 seat assemblies installed; as identified in Boeing Service Bulletin B787-81205-SB250027-00, Issue 001, dated January 14, 2014.

(d) Subject

Air Transport Association (ATA) of America Code 25, Equipment/furnishings.

(e) Unsafe Condition

This AD was prompted by failure during testing of the anchor attachment on the occupant restraint system on the standard attendant seat due to an understrength attachment fitting. We are issuing this AD to prevent failure of the restraint attachment fitting of the attendant seat during an emergency landing, which could cause injury to the cabin crew and passengers and could impede a rapid evacuation.

(f) Compliance

Comply with this AD within the compliance times specified, unless already done.

(g) Replacement

Within 24 months after the effective date of this AD: Replace the existing restraint attachment fitting on the standard attendant seat with a new, improved attachment fitting, in accordance with the Accomplishment Instructions of Boeing Service Bulletin B787-81205-SB250027-00, Issue 001, dated January 14, 2014; and UTC Aerospace Systems Service Bulletin 2787-25-006, Revision B, dated July 10, 2013.

(h) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (i) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane.

(i) Related Information

For more information about this AD, contact Eric M. Brown, Aerospace Engineer, Cabin Safety and Environmental Systems Branch, ANM-150S, FAA, Seattle Aircraft Certification Office, 1601 Lind Avenue SW., Renton, WA 98057-3356; phone: 425-917-6476; fax: 425-917-6590; email: eric.m.brown@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Service Bulletin B787-81205-SB250027-00, Issue 001, dated January 14, 2014.

(ii) UTC Aerospace Systems Service Bulletin 2787-25-006, Revision B, dated July 10, 2013.

(3) For service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on November 19, 2014.
Suzanne Masterson,
Acting Manager, Transport Airplane Directorate, Aircraft Certification Service.

[FR Doc. 2014-28132 Filed 12-4-14; 8:45 am]

BILLING CODE 4910-13-P